DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

David D. Sanchez, Public Health Foundation Enterprises, Inc. (PHFE): Based on the report of an investigation conducted by PHFE and additional analysis conducted by ORI in its oversight review, the U.S. Public Health Service (PHS) found that Mr. Sanchez, former research assistant for PHFE's California Emerging Infections Program (CEIP), engaged in scientific misconduct in research supported by Centers for Disease Control and Prevention (CDC) cooperative agreement U50 CCU915546-03.

Specifically, PHS finds that Mr. Sanchez engaged in scientific misconduct by falsifying and fabricating data in interview questionnaires involving 21 cases and 27 controls for the “Campylobacter Ethnicity Case Control Study,” which he submitted to the CEIP coordinator. As a result of his actions, none of Mr. Sanchez' research could be considered reliable and the research project was terminated. Mr. Sanchez also falsified and fabricated an additional 15 data records relating to PHFE's “E. coli O157 Case-Control Study,” which he also submitted to the CEIP coordinator. Mr. Sanchez further engaged in a pattern of dishonest conduct that indicates that he is not presently responsible to be a steward of Federal funds. This pattern of behavior includes falsely claiming hundreds of hours on his time sheets submitted to CEIP for which he had not performed any work and repeatedly refusing to cooperate with the misconduct investigation. These actions adversely and materially affected CEIP's ability to determine risk factors for Campylobacter infections among Latino and Chinese-American children. No publications required correction.

Mr. Sanchez has entered into a Voluntary Exclusion Agreement (Agreement) with PHS in which he has voluntarily agreed for a period of three (3) years, beginning on September 4, 2001:

(1) To exclude himself from any contracting or subcontracting with any agency of the United States Government and from eligibility for, or involvement in, nonprocurement transactions (e.g., grants and cooperative agreements) of the United States Government as defined in 45 C.F.R. Part 76 (Debarment Regulations);

(2) To exclude himself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852, (301) 443-5330.

Chris B. Pascal,
Director, Office of Research Integrity.

[FR Doc. 01-24157 Filed 9-26-01; 8:45 am]

BILLING CODE 4150-31-P